DEPARTMENT OF TRANSPORTATION

Federal Aviation Administration

14 CFR Part 71

[Docket No. FAA-2009-1105; Airspace Docket No. 09-ANM-23]

Amendment of Class D and E Airspace; Everett, WA

AGENCY: Federal Aviation Administration (FAA), DOT.

ACTION: Final rule.

SUMMARY: This action will amend Class D and E airspace at Snohomish County Airport (Paine Field), Everett, WA, by updating the geographic coordinates of the airport, and removes the operating hours established by a Notice to Airmen (NOTAM) for the Class E surface area airspace. This action enhances the safety and management of Instrument Flight Rules (IFR) operations at Snohomish County Airport (Paine Field).

DATES: Effective date: 0901 UTC, September 23, 2010. The Director of the Federal Register approves this incorporation by reference action under 1 CFR Part 51, subject to the annual revision of FAA Order 7400.9 and publication of conforming amendments.

FOR FURTHER INFORMATION CONTACT: Eldon Taylor, Federal Aviation Administration, Operations Support Group, Western Service Center, 1601 Lind Avenue, SW., Renton, WA, 98057; telephone (425) 203-4537.

SUPPLEMENTARY INFORMATION:

History

On February 4, 2010, the FAA published in the Federal Register a notice of proposed rulemaking to amend Class D and E airspace at Everett, WA (75 FR 5702). Interested parties were invited to participate in this rulemaking effort by submitting written comments on the proposal to the FAA. No comments were received.

Subsequent to publication, the FAA found that the operating hours for the Class D airspace had not changed and, therefore, will continue the operating hours to be effective during the specific dates and times established in advance by NOTAM.

With the exception of editorial changes, and the changes described above, this rule is the same as that proposed in the NPRM.

Class D and Class E airspace designations are published in paragraph 5000 and 6002, respectively, of FAA Order 7400.9T signed August 27, 2009, and effective September 15, 2009, which is incorporated by reference in 14 CFR part 71.1. The Class D and Class E airspace designations listed in this document will be published subsequently in that Order.

The Rule

This action amends Title 14 Code of Federal Regulations (14 CFR) Part 71 by amending Class D airspace, updating the geographic coordinates for Snohomish County Airport (Paine Field), Everett, WA, and continues the operating hours to be effective during specific dates and times established in advance by NOTAM. The Class E surface area airspace at Snohomish County Airport (Paine Field) will be continuous 24 hours, and no longer effective during specific dates and times established in advance by NOTAM. The geographic coordinates of the airport also will be updated. This action is necessary for the safety and management of IFR operations at the airport.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends controlled airspace at Snohomish County Airport (Paine Field), Everett, WA.

List of Subjects in 14 CFR Part 71

Airspace, Incorporation by reference, Navigation (air).

Adoption of the Amendment

In consideration of the foregoing, the Federal Aviation Administration amends 14 CFR part 71 as follows:

PART 71—DESIGNATION OF CLASS A, B, C, D AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR part 71.1 of the Federal Aviation Administration Order 7400.9T, Airspace Designations and Reporting Points, signed August 27, 2009, and effective September 15, 2009 is amended as follows:

Paragraph 5000 Class D Airspace.

* * * * *

ANM WA D Everett, WA [Amended]

Everett, Snohomish County Airport (Paine Field), WA

(Lat. 47°54′25″ N., long. 122°16′54″ W.)

That airspace extending upward from the surface to and including 3,100 feet MSL within a 4.5-mile radius of the Snohomish County Airport (Paine Field). This Class D airspace area is effective during specific dates and times established in advance by a Notice to Airmen. The effective date and time will thereafter by continuously published in the Airport/Facility Directory.

Paragraph 6002 Class E airspace Designated as Surface Areas.

* * * * *

ANM WA E2 Everett, WA [Amended]

Everett, Snohomish County Airport (Paine Field), WA

(Lat. 47°54′25″ N., long. 122°16′54″ W.)

That airspace extending upward from the surface to and including 3,100 feet MSL within a 4.5-mile radius of the Snohomish County Airport (Paine Field).

Issued in Seattle, Washington, on June 30, 2010.
John Warner,
Manager, Operations Support Group, Western Service Center.

[FR Doc. 2010-17130 Filed 7-14-10; 8:45 am]

BILLING CODE 4910-13-P